DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, State Route-47 on the Vincent Thomas Bridge in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 5, 2025. If the Federal law that authorizes judicial review of a claim provides a time period of less than 150 days for filing such claim, then that shorter time period still applies.

FOR FURTHER INFORMATION CONTACT: For Caltrans: Jason Roach, Senior Environmental Scientist, Caltrans, 100 South Main Street, Los Angeles, California, Hours: 8:00-4:30, Phone: (213) 310-2653, Email: jason.roach@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The Vincent Thomas Bridge (VTB) Deck Replacement Project on State Route 47 in Los Angeles County proposes to replace the entire bridge deck, guardrail barriers, and seismic sensors on the bridge to preserve the structural integrity of the VTB deck and to enhance the bridge's overall safety. The transportation project's construction is anticipated to last approximately 16 months. The VTB has been in service for 60 years. Although the bridge is structurally sound, the bridge deck is rapidly deteriorating due to concrete fatigue caused by heavy truck traffic and environmental deterioration due to age and the marine environment. The actions by the Federal agencies, and the laws under which such actions were taken, are described in the Environmental Assessment/Finding of No Significant Impact (EA/FONSI) for the project, approved on September 27, 2024 and in other documents in the project records. The EA/FONSI and other project records are available by contacting Caltrans at the address provided above. The Caltrans EA/FONSI can be viewed and downloaded from the project website at https://www.virtualeventroom.com/caltrans/vtb/.

This notice applies to all Federal agency decisions as of the issuance date of this notice and all laws under which such actions were taken, including but not limited to:

1. National Environmental Policy Act of 1969

2. Clean Air Act, 42 U.S.C. 7401-7671

3. Endangered Species Act of 1973 (ESA), 16 U.S.C. 1531-1544

4. National Historic Preservation Act of 1966 (NHPA)

5. Clean Water Act, 33 U.S.C. 1251-1387 (sections 319, 401, and 404)

(Catalog of Federal Domestic Assistance Program Number 20.205, Highway Planning and Construction. The regulations implementing Executive Order 12372 regarding intergovernmental consultation on Federal programs and activities apply to this program.)

Authority: 23 U.S.C. 139(l)(1).

Antonio Johnson,
Director of Planning, Environmental and Right of Way, Federal Highway Administration, California Division.

[FR Doc. 2024-28369 Filed 12-3-24; 8:45 am]

BILLING CODE 4910-RY-P